DEPARTMENT OF ENERGY

Federal Energy Regulatory Commission

[Docket No. CP00-24-003]

Sabine Pipe Line LLC, Notice of Compliance Filing

August 9, 2001.

Take notice that on July 30, 2001, Sabine Pipe Line LLC (Sabine) tendered for filing a cost and revenue study as required by the Commission's February 24, 2000, Order Issuing Certificate and Authorizing Abandonment, issued in Docket Nos. CP00-24-000 and CP00-25-000. Sabine's cost and revenue study provides operational information for the twelve-month period ending April 30, 2001. Sabine does not propose any changes to its currently effective rates.

Any person desiring to be heard or to protest this filing should file a motion to intervene or protest with the Federal Energy Regulatory Commission, 888 First Street, N.E., Washington, D.C. 20426, in accordance with § 385.211 and § 384.214 of the Commission's Rules of Practices and Procedures. All such motions and comments must be filed in accordance with Section 154.210 of the Commission's regulations. Protests will be considered by the Commission in determining the appropriate action to be taken, but will not serve to make protestants parties to the proceeding. Any person wishing to become a party must file a motion to intervene. Copies of this filing are on file with the Commission and are available for public inspection in the Public Reference Room. This filing may be viewed on the web at http://www.ferc.gov. Using the “RIMS” link, select “Docket #” and follow the instructions (call 202-208-2222 for assistance). Comments, protests, and interventions may be filed electronically via the Internet in lieu of paper. See 18 CFR 385.2001(a)(1)(iii) and the instructions on the Commission's web site under the “e-Filing” link. Applicant's designated contact person is L. Wade Hopper, 1111 Bagby Street, Houston, Texas 77002. His phone number is 713-752-7188.

Linwood A. Watson, Jr.,
Acting Secretary.

[FR Doc. 01-20456 Filed 8-14-01; 8:45 am]

BILLING CODE 6717-01-P